OFFICE OF PERSONNEL MANAGEMENT

Excepted Service

AGENCY: Office of Personnel Management.

ACTION: Notice.

SUMMARY: This gives notice of positions placed or revoked under Schedules placed under Schedule C in the excepted service, as required by Civil Service Rule VI, Exceptions from the Competitive Service.

FOR FURTHER INFORMATION CONTACT: Pam Shivery, Director, Washington Service Center, Employment Service (202) 606-1015.

SUPPLEMENTARY INFORMATION: The Office of Personnel Management published its last monthly notice updating appointing authorities established or revoked under the Excepted Service provisions of 5 CFR 213 December 7, 2000 (65 FR 76675). Individual authorities established or revoked under Schedule C between November 1, 2000, and November 30, 2000, appear in the listing below. Future notices will be published on the fourth Tuesday of each month, or as soon as possible thereafter. A consolidated listing of all authorities as of June 30 will also be published.

Schedule C

The following Schedule C authorities were established during November 2000:

Commission on Civil Rights

Special Assistant to the Commissioner. Effective November 22, 2000.

Department of Agriculture

Confidential Assistant to the Administrator, Rural Housing Service. Effective November 2, 2000.

Confidential Assistant to the Administrator, Rural Housing Service. Effective November 3, 2000.

Confidential Assistant to the Administrator, Rural Business-Cooperative. Effective November 9, 2000.

Department of Defense

Staff Specialist to the Deputy Assistant Secretary of Defense for Asian and Pacific Affairs. Effective November 2, 2000.

Department of Education

Confidential Assistant to the Deputy Secretary. Effective November 2, 2000.

Confidential Assistant to the Assistant Secretary, Office of Elementary and Secondary Education. Effective November 6, 2000.

Department of Energy

Special Assistant to the Administrator for National Nuclear Security Administration. Effective November 16, 2000.

Department of Housing and Urban Development

Secretary's Representative to the Deputy Secretary. Effective November 17, 2000.

Special Assistant to the Director, Office of Executive Scheduling. Effective November 30, 2000.

Department of the Interior

Special Assistant to the Director of External Affairs. Effective November 9, 2000.

Department of State

Program Officer to the Assistant Secretary, Office of International Visitors, Bureau of Educational and Cultural Affairs. Effective November 15, 2000.

Department of Transportation

Special Assistant to the Administrator, Federal Highway Administration. Effective November 2, 2000.

Special Assistant to the Director, Office of Public Affairs. Effective November 2, 2000.

Deputy Director of Public Affairs to the Assistant to the Secretary and Director of Public Affairs. Effective November 2, 2000.

Intergovernmental Liaison Officer to the Director, Office of Intergovernmental Affairs. Effective November 6, 2000.

Small Business Administration

Special Assistant to the Deputy Chief of Staff. Effective November 22, 2000.

Scheduler to the Deputy Administrator. Effective November 22, 2000.

Authority: 5 U.S.C. 3301 and 3302; E.O. 10577, 3 CFR 1954-1958 Comp.; P.218.

Office of Personnel Management.
Janice R. Lachance,
Director.

[FR Doc. 01-1747 Filed 1-19-01; 8:45 am]

BILLING CODE 6325-01-U